DEPARTMENT OF ENERGY

Federal Energy Regulatory Commission

[Docket No. EC02-104-000, et al.]

Mountain View Power Partners, LLC, et al.; Electric Rate and Corporate Regulation Filings

August 16, 2002

The following filings have been made with the Commission. The filings are listed in ascending order within each docket classification.

1. Mountain View Power Partners, LLC; Mountain View Power Partners II, LLC; PG&E Energy Trading-Power, L.P.

[Docket No. EC02-104-000]

Take notice that on August 12, 2002, Mountain View Power Partners, LLC (Mountain View), Mountain View Power Partners II, LLC (Mountain View II), and PG&E Energy Trading-Power, L.P. (PGET) tendered for filing, pursuant to Section 203 of the Federal Power Act, 16 U.S.C. § 824b (1994), and part 33 of the Commission's regulations, 18 CFR part 33, an application for authorization of a proposed intra-corporate reorganization whereby (1) Mountain View II will be merged with and into Mountain View and (2) PGET will transfer its interest in a long-term power sales agreement with the California Department of Water Resources to Mountain View.

Comment Date: September 3, 2002.

2. ST-CMS Electric Company Private Limited

[Docket No. EG02-179-000]

Take notice that on August 12, 2002, ST-CMS Electric Company Private Limited, Fairlane Plaza South, Suite 1000, 330 Town Center Drive, Dearborn, Michigan 48126, filed with the Federal Energy Regulatory Commission (Commission) an application for determination of exempt wholesale generator status pursuant to Part 365 of the Commission's regulations.

The Applicant is a private limited company formed under the laws of India. ST-CMS is an indirect partially owned subsidiary of CMS Generation Co. CMS Generation is a wholly-owned direct subsidiary of CMS Enterprises Company. CMS Enterprises Company is a wholly-owned direct subsidiary of CMS Energy Corporation (CMS Energy). ST-CMS is jointly owned by ABB Power Investment (India) B.V., a subsidiary of ABB Energy Ventures B.V. ST-CMS Electric Company Private Limited owns a 250 MW lignite fuel fired electric power generation facility at Neyveli in the state of Tamil Nadu, India.

Comment Date: September 6, 2002.

3. CMS (India) Operations and Maintenance Company Private Limited

[Docket No. EG02-180-000]

Take notice that on August 12, 2002, CMS (India) Operations and Maintenance Company Private Limited, Fairlane Plaza South, Suite 1000, 330 Town Center Drive, Dearborn, Michigan 48126, filed with the Federal Energy Regulatory Commission (Commission) an application for determination of exempt wholesale generator status pursuant to Part 365 of the Commission's regulations.

CMS (India) Operations and Maintenance Company Private Limited is a private limited company formed under the laws of India. It is an indirectly wholly-owned subsidiary of CMS Generation Co. CMS Generation is a wholly-owned direct subsidiary of CMS Enterprises Company. CMS Enterprises Company is a wholly-owned direct subsidiary of CMS Energy Corporation. CMS (India) Operations and Maintenance Company Private Limited will operate, under an operations and maintenance agreement with the owner, a 250 MW lignite fuel fired electric power generation facility at Neyveli in the state of Tamil Nadu, India.

Comment Date: September 6, 2002.

4. Conectiv Delmarva Generation, Inc.

[Docket No. ER00-3168-003]

Take notice that on August 9, 2002, Conectiv, on behalf of Delmarva Power & Light Company and Conectiv Delmarva Generation, Inc. filed a notice of withdrawal of its October 31, 2001 filing in the above-captioned proceeding.

Copies of the filing were served upon the official service list.

Comment Date: August 30, 2002.

5. Reliant Energy Etiwanda, Inc.

[Docket No. ER02-2450-000]

Take notice that on August 14, 2002 Reliant Energy Etiwanda, Inc. (Reliant Etiwanda) tendered for filing a Notice of Succession in Ownership or Operation. Reliant Etiwanda requests the change be effective as of March 8, 2002.

Comment Date: September 4, 2002.

6. Reliant Energy Ellwood, Inc.

[Docket No. ER02-2451-000]

Take notice that on August 14, 2002 Reliant Energy Ellwood, Inc. (Reliant Ellwood) tendered for filing a Notice of Succession in Ownership or Operation. Reliant Ellwood requests the change be effective as of March 8, 2002.

Comment Date: September 4, 2002.

7. Reliant Energy Mandalay, Inc.

[Docket No. ER02-2452-000]

Take notice that on August 14, 2002 Reliant Energy Mandalay, Inc. (Reliant Mandalay) tendered for filing a Notice of Succession in Ownership or Operation. Reliant Mandalay requests the change be effective as of March 8, 2002.

Comment Date: September 4, 2002.

8. Entergy Services, Inc.

[Docket No. ER02-2454-000]

Take notice that on August 13, 2002, Entergy Services, Inc. (Entergy Services), on behalf of Entergy Arkansas, Inc., Entergy Gulf States, Inc., Entergy Louisiana, Inc., Entergy Mississippi, Inc., and Entergy New Orleans, Inc., tendered for filing six copies of a Notice of Termination for Short-Term and Non-Firm Point-To-Point Transmission Service Agreements between Entergy Services and Public Service Electric and Gas Company.

Comment Date: September 3, 2002.

9. Citizens Communications Company

[Docket No. ER02-2456-000]

Take notice that on August 12, 2002, Citizens Communications Company (Citizens) filed a Service Agreement with NRG Power Marketing Inc. for Non-Firm Point-to-Point Transmission Service, designated as Service Agreement No. 12 under Citizens' Vermont Electric Division's Open Access Transmission Tariff, Electric Tariff Original Vol. 2. Citizens also filed Third Revised Sheet No. 182 (Attachment E, Index of Point to Point Transmission Service Customers) to Citizens' Vermont Electric Division's Open Access Transmission Tariff, Electric Tariff Original Vol. 2, replacing Second Revised Sheet No. 182.

Citizens requests waiver of the Commission's prior notice requirements, and an effective date of July 22, 2002 for the service agreement and revised tariff sheet.

Copies of this filing were served on the wholesale customers, state commission, and other entities listed on the certificate of service attached to the filing. In addition, a copy of the rate schedule is available for inspection at the offices of Citizens' Vermont Electric Division during regular business hours.

Comment Date: September 3, 2002.

10. Commonwealth Edison Company

[Docket No. ER02-2457-000]

Take notice that on August 9, 2002, Commonwealth Edison Company (ComEd) tendered for filing with the Federal Energy Regulatory Commission (Commission) a Notice of Cancellation of Service Agreement No. 553 and a Revised Sheet No. 1 to Service Agreement No. 553 under ComEd's Second Revised Tariff No. 5, with the designation information required by Commission Order No. 614 (FERC Stats. & Regs. ¶ 31,096), indicating that the service agreement is to be canceled effective July 8, 2002.

Comment Date: August 30, 2002.

11. Midwest Independent Transmission System Operator, Inc.

[Docket No. ER02-2458-000]

Take notice that on August 12, 2002, the Midwest Independent Transmission System Operator, Inc. (Midwest ISO) submitted for filing proposed revisions to Schedules 7, 8 and 9 of the Midwest ISO's Open Access Transmission Tariff (OATT) in order to include Wolverine Power Supply Cooperative, Inc. in the Midwest ISO as a pricing zone.

The Midwest ISO has electronically served a copy of this filing upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter. The Midwest ISO will provide hard copies to any interested parties upon request.

The Midwest ISO has requested that the proposed revisions to the Midwest ISO OATT be made effective on the latter of October 1, 2002 or the date upon which all conditions to Wolverine's membership application have been satisfied.

Comment Date: September 3, 2002.

12. Northeast Power Coordinating Council

[Docket No. ER02-2459-000]

Take notice that on August 12, 2002, the Northeast Power Coordinating Council (NPCC), on behalf of the member Systems of the New York Independent System Operator, Inc. (NYISO) and joined by Midwest Independent Transmission System Operator, Inc. (Midwest ISO), Michigan Electric Transmission Company, LLC (Michigan Transco LLC), International Transmission Company (International Transmission), American Electric Power Company, Inc. (AEP), FirstEnergy Corp (FE), PJM Interconnection, L.L.C. (PJM), and with the support of the Independent Electricity Market Operator in Ontario (IMO) (collectively the LEER Participants) filed a revision to the Lake Erie Emergency Redispatch Agreement (LEER). NPCC coordinates Lake Erie Emergency Redispatch activities and posts all LEER-related information on the NPCC web site. The revisions embodied in this filing refine those sections of the LEER Agreement needed to reflect changes in the industry since the last LEER filing in July 2000.

NPCC states that copies of the filing were mailed to the commissions in the states of Delaware, Illinois, Indiana, Iowa, Kansas, Kentucky, Maryland, Michigan, Minnesota, Missouri, Nebraska, New Jersey, New York, North Dakota, Ohio Pennsylvania, South Dakota, Virginia, West Virginia and Wisconsin.

The LEER Participants request that the revised LEER Agreement described in this filing be made effective October 10, 2002.

Comment Date: September 3, 2002.

13. Midwest Independent Transmission System Operator, Inc.

[Docket No. ER02-2460-000]

Take notice that on August 13, 2002, pursuant to section 205 of the Federal Power Act and section 35.12 of the Federal Energy Regulatory Commission's regulations, 18 CFR 35.12, the Midwest Independent Transmission System Operator, Inc. (Midwest ISO) submitted for filing an Interconnection and Operating Agreement among Valley Queen Cheese Factory, Inc., the Midwest ISO and Otter Tail Power Company.

A copy of this filing was sent to Valley Queen Cheese Factory, Inc. and Otter Tail Power Company.

Comment Date: September 3, 2002.

14. PECO Energy Company

[Docket No. ER02-2461-000]

Take notice that on August 13, 2002 PECO Energy Company (PECO) submitted for filing, on behalf of itself and PPL Electric Utilities Corporation (PPL) PECO's First Revised FERC Rate Schedule No. 26; and PPL's First Revised FERC Rate Schedule No. 40, which incorporate a modification to Article V and were revised consistent with Order 614.

Comment Date: September 3, 2002.

15. Niagara Mohawk Power Corporation

[Docket No. ER02-2462-000]

Take notice that on August 13, 2002, Niagara Mohawk Power Corporation (NIMO) filed two executed interconnection agreements with WPS Empire State, Inc. (Empire State), the successor in interest to an entity known as CH Resources, Inc. (CH Resources). On May 31, 2002, CH Resources' stock was acquired by WPS Power Development, Inc., which entity changed CH Resources name to WPS Empire State, Inc. upon its acquisition of CH Resources. The interconnection agreements set forth the terms and conditions governing the interconnection between the Niagara generating facility (Niagara Facility) and the Syracuse generating facility (Syracuse Facility), respectively, and NIMO's transmission system. This is a compliance filing to submit the two executed interconnection agreements, known as Service Agreement Nos. 315 and 316, in an Order No. 614 format. By letter order, dated May 3, 2002 in this docket, these service agreements had previously been accepted for filing by the Commission. The filing includes a Notice of Succession In Ownership to reflect the above-referenced stock acquisition and name change.

Copies of the filing were served upon Empire State and the New York Public Service Commission.

Comment Date: September 3, 2002.

16. Dr. Mary S. Metz

[Docket No. ID-2431-002]

Take notice that on July 31, 2002, Mary S. Metz filed with the Federal Energy Regulatory Commission (Commission) an application for authority to hold interlocking positions under Section 305(b) of the Federal Power Act, 16 U.S.C. § 825(b).

Comment Date: September 6, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-21612 Filed 8-22-02; 8:45 am]

BILLING CODE 6717-01-P